DEPARTMENT OF HEALTH AND HUMAN SERVICES

[Document Identifier: OS-0990-new]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 17, 2023.

ADDRESSES: Submit your comments to Sherrette.Funn@hhs.gov or by calling (202) 264-0041 and PRA@HHS.GOV.

FOR FURTHER INFORMATION CONTACT: When submitting comments or requesting information, please include the document identifier 0990-New-60D and project title for reference, to Sherrette A. Funn, email: Sherrette.Funn@hhs.gov, PRA@HHS.GOV or call (202) 264-0041 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Critical Infrastructure Protection Healthcare and Public Health (HPH) Partnership Data Collection.

Type of Collection: NEW.

OMB No.: 0990-new.

Abstract: The Administration for Strategic Preparedness and Response's (ASPR) Office of Critical Infrastructure Protection (CIP) serves as the (HPH) Sector Risk Management Agency (SRMA) designee on behalf of the Department of Health and Human Services (HHS) as codified by the 2021 National Defense Authorization Act (NDAA), supporting the HPH Sector to prepare for future threats, manage risks, coordinate effective response, and recover from human-caused and naturally occurring threats and hazards.

CIP promotes resilience of the nation's health critical infrastructure by working directly with public and private sector partners to establish risk assessment tools, foster information sharing, provide technical resources and assistance, and lead programs to prepare for, respond to, and recover from human-caused and naturally occurring threats and hazards. CIP specifically manages the (HPH) Sector Critical Infrastructure Protection Partnership (HPH Partnership), a coordinating body of more than 300 private sector organizations and federal and state, tribal, local, and territorial (STLT) government entities. CIP relies on a strong partnership federal and STLT government entities through the Government Coordinating Council (GCC) and with critical infrastructure owners and operators through the private Sector Coordinating Council (SCC). Together, the councils of the HPH Partnership form a private-public network that promotes situational awareness, coordination, capacity-building, and preparedness and response capabilities by fostering a shared understanding of Sector risks, needs, and opportunities.

SRMAs are expected to determine the extent to which their respective sectors are implementing infrastructure protection frameworks and guidance (e.g., cybersecurity). Per the 2013 National Infrastructure Protection Plan (NIPP), they “serve as a day-to-day Federal interface for the dynamic prioritization and coordination of sector-specific activities and carry out incident management responsibilities”. CIP's success as the SRMA depends heavily on routine and ad hoc data to inform its programs and activities in the HPH Sector.

CIP plans to collect data bi-annually to understand the impact of the HPH Partnership's work on HPH Sector resilience. Using survey-based data collection tools, CIP will measure the performance of the HPH Partnership as a program and use the resulting information to assess the Office's responsiveness to its statutory responsibilities, including those articulated in Section 2009(b) in the 2021 NDAA. The data will additionally support CIP's ability to improve programmatic operations and inform decision-making. CIP will also collect data under urgent circumstances to guide emergency response activities and after-action reporting for the HPH Sector.

Annualized Burden Hour Table
Forms (if necessary) | Respondents (if necessary) | Number of respondents | Number of responses per respondents | Average burden per response | Total burden hours
HPH Partnership Bi-Annual Survey Collection (Fall) | HPH Partnership Members | 308 | 1 | 15/60 | 77
HPH Partnership Bi-Annual Survey Collection (Spring) | HPH Partnership Members | 308 | 1 | 15/60 | 77
Ad hoc Information Collections | HPH Partnership Members | 308 | 1 | 1 | 308
Total |  |  | 3 |  | 462

Sherrette A. Funn,
Paperwork Reduction Act Reports Clearance Officer, Office of the Secretary.

[FR Doc. 2023-10490 Filed 5-16-23; 8:45 am]

BILLING CODE 4150-37-P